DEPARTMENT OF EDUCATION

[CFDA No. 84.342A]

Office of Postsecondary Education; Preparing Tomorrow's Teachers To Use Technology Program; Notice Inviting Applications for New Awards for Fiscal Year (FY) 2003

Purpose of Program: To provide grants to consortia that will increase preservice teachers' proficiency in the use of modern learning technologies. The program is designed to prepare prospective teachers to use advanced technology to ensure all students meet challenging State and local academic content and student academic achievement standards and to improve the ability of institutions of higher education to provide this preparation.

Eligible Applicants: Only consortia are eligible to apply for a grant under this program. The consortia must include at least one institution of higher education that awards baccalaureate degrees and prepares teachers for their initial entry into teaching and at least one State educational agency or local educational agency. In addition, the consortia must include at least one of the following entities: an additional institution of higher education; a school or department of education at an institution of higher education; a school or college of arts and sciences (as defined in section 201(b) of the Higher Education Act of 1965, as amended (HEA)) at an institution of higher education; or a professional association, foundation, museum, library, for-profit business, public or private nonprofit organization, community-based organization, or other entity, with the capacity to contribute to the technology-related reform of teacher preparation programs.

Applications Available: May 19, 2003.

Deadline for transmittal of Applications: June 23, 2003.

Note: In accordance with 34 CFR 614.8, an application for a grant under this program must be received by the deadline date.

Deadline for Intergovernmental Review: August 22, 2003.

Estimated Available Funds: $30,000,000.

Estimated Range of Awards: $200,000-$600,000.

Estimated Average Size of Awards: $400,000.

Estimated Number of Awards: 75 grants.

Note: The Department is not bound by any estimates in this notice.

Project Period: Up to 36 months.

Page Limit: The application narrative is where you, the applicant, address the selection criteria reviewers use to evaluate your application. You must limit the application narrative to the equivalent of no more than 40 pages. In addition, you must limit your budget narrative (which is not counted toward the 40-page limit) to the equivalent of no more than 6 pages. You must use the following standards:

• A “page” is 8.5″ x 11″, on one side only, with 1″ margins at the top, bottom, and both sides.

• Double space (no more than three lines per vertical inch) all text, including titles, headings, footnotes, quotations, references, and captions, as well as all text in charts, tables, figures, and graphs.

• Use a font that is either 12-point or larger or no smaller than 10 point.

The page limit does not apply to the title page, the table of contents, the assurances and justifications; or the one-page abstract, the budget narrative and budget forms, the resumes, the bibliography, or the letters of support and commitment, and the required appendices.

We will reject your application if—

• You apply these standards and exceed the page limit; or

• You apply other standards and exceed the equivalent of the page limit.

Applicable Regulations and Statute: (a) The Education Department General Administrative Regulations (EDGAR) in 34 CFR parts 74, 75 (except for 75.102), 77, 79, 80, 81, 82, 85, 86, 97, 98, and 99; (b) the regulations for this program in 34 CFR 614.6 and 614.8; and (c) the program statute, Title II, Part B of the HEA (20 U.S.C. 1041-1044).

SUPPLEMENTARY INFORMATION: In evaluating an application for a new grant under this competition, the Secretary uses the selection criteria in EDGAR, sections 75.209 and 75.210. The application booklet includes the specific selection criteria used for this competition.

Priority

Invitational Priority: We are particularly interested in applications that meet the following priority.

Invitational Priority. Applications for projects that employ technology in building teachers' capacities to interpret, analyze and incorporate student achievement and testing data into the instructional process.

Under 34 CFR 75.105(c)(1) we do not give an application that meets the invitational priority a competitive or absolute preference over other applications.

For Applications Contact: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html.

Or you may contact ED Pubs at its e-mail address: edpubs@inet.ed.gov.

If you request an application from ED Pubs, be sure to identify this competition as follows: CFDA number 84.342A.

FOR FURTHER INFORMATION CONTACT: Brenda Shade, Preparing Tomorrow's Teachers to Use Technology Program, U.S. Department of Education, 1990 K Street, NW., Suite 7090, Washington, DC 20006-8526. Telephone: (202) 502-7773 or via Internet: brenda.shade@ed.gov.

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: http://www.ed.gov/legislation/FedRegister.

To use PDF you must have the Adobe Acrobat Reader, which is available free at this site. If you have questions about using PDF, call the U.S. Government Printing Office (GPO), toll free, at 1-888-293-6498; or in the Washington, DC area at (202) 512-1530.

You may also view this document in Microsoft word and PDF at the following site: http://www.ed.gov/offices/OPE/PPI/teachtech/pt3application.html.

Note: The official version of this document is the document published in the Federal Register. Free Internet access to the official edition of the Federal Register and the Code of Federal Regulations is available on GPO Access at: http://www.access.gpo.gov/nara/index.html.

Program Authority: 20 U.S.C. 1041-1044.

Dated: May 14, 2003.
Sally L. Stroup,
Assistant Secretary, Office of Postsecondary Education.

[FR Doc. 03-12447 Filed 5-16-03; 8:45 am]

BILLING CODE 4000-01-P